DEPARTMENT OF AGRICULTURE

Grain Inspection, Packers and Stockyards Administration

Amendment to Certification of Minnesota's Central Filing System

AGENCY: Grain Inspection, Packers and Stockyards Administration, USDA.

ACTION: Notice.

SUMMARY: In response to a request from Minnesota's Secretary of State we are approving the amendments to the signature and property description requirements of the certified central filing system for Minnesota and the addition of two farm products to Minnesota's certified central filing system for notification of liens on farm products.

DATES: Effective Date: April 25, 2006.

SUPPLEMENTARY INFORMATION: The Grain Inspection, Packers and Stockyards Administration (GIPSA) administers the Clear Title program for the Secretary of Agriculture. The Clear Title program is authorized by Section 1324 of the Food Security Act of 1985 and requires that States implementing central filing system for notification of liens on farm products must have such systems certified by the Secretary of Agriculture.

A listing of the states with certified central filing systems is available through the Internet on the GIPSA Web site (http://www.gipsa.usda.gov). Farm products covered by a State's central filing system are also identified through the GIPSA Web site. The Minnesota central filing system covers specified products.

We originally certified the central filing system for Minnesota on July 7, 1993. On September 5, 2005, Mary Kiffmyer, Minnesota Secretary of State, requested the certification be amended to make changes related to on-line searching and central filing system procedures necessitated or made possible by amendments to Section 1324 of the Food Security Act, which, among other things, permit effective financing statements to be signed, authorized, or otherwise authenticated. Specifically, the following changes were requested:

(1) Provide for alternative filing of effective financing statements, continuations, and terminations that are signed, authorized, or otherwise authenticated, by internet and

(2) Provide for online searching of master lists by farm product; and within each farm product, alphabetically by debtor name; numerically by debtor identification number; by county; and by crop year.

In addition, she requested the certification be amended to add the following two farm products produced in Minnesota: Wild Rice, Bison.

This notice announces our approval of the amended certification for Minnesota's central filing system in accordance with the request to amend signature and filing requirements, add online searching, and add additional farm products.

Effective Date

This notice is effective upon signature for good cause because it allows Minnesota to provide information about additional farm products through its central filing system. In addition, it increases the flexibility in which effective filing statements may be authorized and authenticated, and it allows various methods to search online for information about farm products. Approving additional farm products for approved central filing systems and changes to the certification of approved central filing systems do not require public notice. Therefore, this notice may be made effective in less than 30 days after publication in the Federal Register without prior notice or other public procedure.

Authority: 7 U.S.C. 1631, 7 CFR 2.22(a)(3)(v) and 2.81(a)(5), and 9 CFR 205.101(e).

James E. Link,
Administrator, Grain Inspection, Packers and Stockyards Administration.

[FR Doc. E6-6464 Filed 4-28-06; 8:45 am]

BILLING CODE 3410-EN-P